NUCLEAR REGULATORY COMMISSION

Documents Containing Reporting or Recordkeeping Requirements: Office of Management and Budget (OMB) Review

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35).

1. Type of submission, new, revision, or extension: 10 CFR parts 20 and 32—Revision; NRC Form 748—New.

2. The title of the information collection: 10 CFR parts 20 and 32, “National Source Tracking of Sealed Sources” and NRC Form 748, “National Source Tracking Transaction Report.”

3. The form number if applicable: NRC Form 748, “National Source Tracking Transaction Report.”

4. How often the collection is required: Initially, at completion of a transaction, and at inventory reconciliation.

5. Who will be required or asked to report: Licensees that manufacture, receive, transfer, disassemble, or dispose of nationally tracked sources.

6. An estimate of the number of annual responses: 5,041.

NRC Form 748—2,781 responses (705 NRC Licensees reporting + 17 NRC recordkeepers + 2,009 Agreement State Licensees reporting + 50 Agreement State recordkeepers);

10 CFR Part 20—2,250 responses (467 NRC Licensees + 117 NRC recordkeepers + 1,333 Agreement State Licensees + 333 Agreement State recordkeepers);

10 CFR Part 32—10 recordkeepers (3 NRC recordkeepers + 7 Agreement State recordkeepers).

7. The estimated number of annual respondents: 1,350 (350 NRC Licensees + 1,000 Agreement State Licensees).

8. An estimate of the total number of hours needed annually to complete the requirement or request: 11,604 hours.

NRC Form 748—421 recurring annual reporting burden hours [10 minutes per response (109 hours NRC Licensees) + (312 hours Agreement State Licensees).] 5,333 annualized one-time recordkeeping burden hours [80 hours for 67 recordkeepers (17 NRC recordkeepers) +(50 Agreement State recordkeepers)].

10 CFR Part 20—1,800 recurring reporting burden hours [1 hour per response (467 NRC Licensees) + (1,333 Agreement State Licensees)]. 3,600 annualized one-time recordkeeping burden hours [8 hours each for 450 recordkeepers (936 hours NRC Licensees) + (2,664 hours Agreement State Licensees)].

10 CFR Part 32—450 recordkeeping hours [45 hours per recordkeeper (135 hours NRC Licensees) + (315 hours Agreement State Licensees)].

9. An indication of whether Section 3507(d), Pub. L. 104-13 applies: Applicable.

10. Abstract: The NRC is proposing to amend its regulations to implement a National Source Tracking System for certain sealed sources. The amendments would require licensees to report certain transactions involving nationally tracked sources to the National Source Tracking System. These transactions would include manufacture, transfer, receipt, disassembly, or disposal of the nationally tracked source. The amendment would require each licensee to provide its initial inventory of nationally tracked sources to the National Source Tracking System and annually reconcile the information in the system with the licensee's actual inventory. The rule would also require manufacturers of nationally tracked sources to assign a unique serial number to each source. This information collection is mandatory and will be used to populate the National Source Tracking System.

A copy of the supporting statement may be viewed free of charge at the NRC Public Document Room, One White Flint North, 11555 Rockville Pike, Room O-1 F21, Rockville, MD 20852. OMB clearance packages are available at the NRC World Wide Web site: http://www.nrc.gov/public-involve/doc-comment/omb/index.html. The document will be available on the NRC home page site for 60 days after the signature date of this notice.

Comments and questions should be directed to the OMB reviewer by August 7, 2006: John A. Asalone, Office of Information and Regulatory Affairs (3150-0014, 3150-0001, and 3150-xxxx), NEOB-10202, Office of Management and Budget, Washington, DC 20503.

Comments can also be e-mailed to John_A._Asalone@omb.eop.gov or submitted by telephone at (202) 395-4650.

The NRC Clearance Officer is Brenda Jo. Shelton, 301-415-7233.

Dated at Rockville, Maryland, this 1st day of June 2006.
For the Nuclear Regulatory Commission.
Brenda Jo. Shelton,
NRC Clearance Officer, Office of Information Services.

[FR Doc. E6-8921 Filed 6-7-06; 8:45 am]

BILLING CODE 7590-01-P